DEPARTMENT OF COMMERCE

Bureau of Industry and Security

15 CFR Part 748

[Docket No. 070817469-7596-01]

RIN 0694-AE11

Approved End-Users and Respective Eligible Items for the People's Republic of China (PRC) Under Authorization Validated End-User (VEU)

Correction

In rule document E7-20642 beginning on page 59164 in the issue of Friday, October 19, 2007, make the following correction:

On page 59164, in the first column, under the heading dates, in the first and second lines, “November 19, 2007” should read “October 19, 2007”.

[FR Doc. Z7-20642 Filed 10-23-07; 8:45 am]

BILLING CODE 1505-01-D